INTERNATIONAL TRADE COMMISSION

[Investigation No. 701-TA-460 (Final)]

Ni-Resist Piston Inserts From Argentina; Determination

On the basis of the record ¹ developed in the subject investigation, the United States International Trade Commission (Commission) determines, pursuant to section 705(b) of the Tariff Act of 1930 (19 U.S.C. 1671d(b)) (the Act), that an industry in the United States is not materially injured or threatened with material injury, and the establishment of an industry in the United States is not materially retarded, by reason of imports from Argentina of Ni-resist piston inserts, provided for in subheading 8409.99.91 of the Harmonized Tariff Schedule of the United States, that have been found by the Department of Commerce (Commerce) to be subsidized by the Government of Argentina.

¹ The record is defined in sec. 207.2(f) of the Commission's Rules of Practice and Procedure (19 CFR § 207.2(f)).

Background

The Commission instituted this investigation effective January 26, 2009, following receipt of a petition filed with the Commission and Commerce by Korff Holdings LLC d/b/a Quaker City Castings, Salem, OH. The final phase of the investigation was scheduled by the Commission following notification of a preliminary determination by Commerce that imports of Ni-resist piston inserts from Argentina were being subsidized within the meaning of section 703(b) of the Act (19 U.S.C. 1671b(b)). Notice of the scheduling of the final phase of the Commission's investigation and of a public hearing to be held in connection therewith was given by posting copies of the notice in the Office of the Secretary, U.S. International Trade Commission, Washington, DC, and by publishing the notice in the Federal Register of July 17, 2009 (74 FR 34784, July 6, 2009). The hearing was held in Washington, DC, on September 17, 2009, and all persons who requested the opportunity were permitted to appear in person or by counsel.

The Commission transmitted its determination in this investigation to the Secretary of Commerce on October 29, 2009. The views of the Commission are contained in USITC Publication 4104 (October 2009), entitled Ni-resist Piston Inserts from Argentina: Investigation No. 701-TA-460 (Final).

By order of the Commission.
Issued: October 29, 2009.
Marilyn R. Abbott,
Secretary to the Commission.

[FR Doc. E9-26547 Filed 11-4-09; 8:45 am]

BILLING CODE 7020-02-P